DEPARTMENT OF JUSTICE

Notice of Lodging of Proposed Stipulation and Settlement Agreement Under The Toxic Substances Control Act

On January 3, 2022, the Department of Justice lodged a proposed stipulation and settlement agreement with the United States District Court for the Eastern District of New York in the lawsuit entitled United States of America v. SYG Realties, L.L.C., All Year Management NY, Inc., and All Year Management, L.L.C., Case No. 22-CV-14.

The United States filed this lawsuit to seek civil penalties and injunctive relief for violations of the Toxic Substances Control Act, 15 U.S.C. 2682(c), 2686(b) and 2687, (“TSCA”) and the Renovation, Repair and Painting Rule, 40 CFR part 745, subpart E (“RRP Rule”). The alleged violations concern the alleged failure of SYG Realties, L.L.C., All Year Management NY, Inc., and All Year Management, L.L.C. (“defendants”), business entities that renovated residential units, to comply with TSCA and the RRP Rule at five locations in Brooklyn, New York. The Complaint alleges that defendants, inter alia, failed to obtain firm certification, failed to use certified renovators, failed to comply with safe work-practice requirements, failed to provide the “Renovate Right” Pamphlet or post warning signs, and failed to establish records demonstrating compliance with the RRP Rule, maintain those records, and make them available to EPA.

The Stipulation and Settlement Agreement requires defendants to implement injunctive relief that includes advising EPA of any intent to engage in any renovation work governed by the RRP Rule in the future and then to negotiate a compliance plan with EPA that is enforceable through the Stipulation and Settlement Agreement.

The publication of this notice opens a period for public comment on the proposed Stipulation and Settlement Agreement. Comments should be addressed to the Assistant Attorney General, Environment and Natural Resources Division, and should refer to United States of America v. SYG Realties, L.L.C., All Year Management NY, Inc., and All Year Management, L.L.C., Civil Action No. 22-CV-14, D.J. Ref. No. 90-5-1-1-11074. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation and Settlement Agreement may be examined and downloaded at this Justice Department website: https://www.justice.gov/enrd/consent-decrees. We will provide a paper copy of the Stipulation and Settlement Agreement upon written request and payment of reproduction costs. Please mail your request and payment to: Consent Decree Library, U.S. DOJ—ENRD, P.O. Box 7611, Washington, DC 20044-7611.

Please enclose a check or money order for $1.75 (25 cents per page reproduction cost) payable to the United States Treasury.

Henry Friedman,
Assistant Section Chief, U.S. Department of Justice, Environment and Natural Resources Division, Environmental Enforcement Section.

[FR Doc. 2022-00174 Filed 1-7-22; 8:45 am]

BILLING CODE 4410-15-P